DEPARTMENT OF DEFENSE

Office of the Secretary

[Docket ID DOD-2010-OS-0048]

Privacy Act of 1974; System of Records

AGENCY: Defense Security Cooperation Agency, DoD.

ACTION: Notice to alter a system of records.

SUMMARY: The Office of the Secretary of Defense proposes to alter a system of records to its inventory of record systems subject to the Privacy Act of 1974 (5 U.S.C. 552a), as amended.

DATES: This proposed action would be effective without further notice on May 17, 2010 unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from the Chief, OSD/JS Privacy Office, Freedom of Information Directorate, Washington Headquarters Services, 1155 Defense Pentagon, Washington DC 20301-1155.

The proposed system report, as required by 5 U.S.C. 552a(r) of the Privacy Act of 1974, as amended, was submitted on March 31, 2010, to the House Committee on Oversight and Government Reform, the Senate Committee on Governmental Affairs, and the Office of Management and Budget (OMB) pursuant to paragraph 4c of Appendix I to OMB Circular No. A-130, “Federal Agency Responsibilities for Maintaining Records About Individuals” dated February 8, 1996 (February 20, 1996; 61 FR 6427).

Dated: April 12, 2010.
Mitchell S. Bryman,
Alternate OSD Federal Register Liaison Officer, Department of Defense.

DSCA 01

System name:

International Affairs Personnel Initiatives Database. (November 23, 2005; 70 FR 70789).

Changes:

* * * * *

Categories of individuals covered by the system:

Delete entry and replace with “Civilians and military personnel employed with the Department of Defense who wish to become certified by the DoD International Affairs Certification Program, a voluntary program sponsored by the Defense Security Cooperation Agency and Departments of the Army, Navy and Air Force.”

Categories of records in the system:

Delete entry and replace with “Full name; e-mail address; work mailing address, telephone and fax numbers.

Employment and education information that includes if individual is civilian or military; major command and mailing address, name of organization, office symbol/code, job title, job function, grade/rank, job series, military specialty, start date, total months in International Affairs related work, billet information, current certification level, highest education completed, and field of study. Supervisor Information that consists of first and last name, e-mail address, organization, office symbol, work phone and fax number.”

Authority for maintenance of the system:

Delete entry and replace with “10 U.S.C. 134, Under Secretary of Defense for Policy and DoD Directive 5105.65, Defense Security Cooperation Agency.”

Purpose(s):

Delete entry and replace with “International Affairs Personnel Initiatives Database (IAPID) is a single central facility with the Department of Defense (DoD) that maintains and verifies information provided by individuals seeking international affairs certification based on their current experience and training.

* * * * *

Safeguards:

Delete entry and replace with “Records are maintained in controlled areas accessible only to authorized personnel. Government computers requiring a Common Access Card to access personal information is further restricted by the use of passwords that are changed periodically. Physical entry is restricted by the locks, security personnel and administrative procedures.”

Retention and disposal:

Delete entry and replace with “Disposition is pending until the National Archives and Records Administration approves the retention and disposal schedule, records will be treated as permanent.”

System manager(s) and address:

Delete entry and replace with “U.S. Army Personnel: Deputy Assistant Secretary of the Army for Defense Exports (DASA DE&C), 1777 North Kent Street, Rosslyn, VA 22209-2185.

U.S. Navy/U.S. Marine Corps Personnel: Navy International Programs Office, 2521 S. Clark Street, Suite 800, Arlington, VA 22202-3928.

U.S. Air Force Personnel: Security Assistance Policy and International Training and Education Division (SAF/IAPX), 1550 Wilson Blvd., Suite 900, Arlington VA 22209-1080.

Other Defense Personnel: Defense Institute of Security Assistance Management (DISAM), Project Manager, Building 52, 2475 K Street, Wright-Patterson AFB, Ohio 45433-7641.”

Notification procedure:

Delete entry and replace with “Individuals seeking to determine whether information about themselves is contained in this system should address written request to the appropriate system manager listed above.

Written requests should include the full name, organization, job series and title and be signed.”

Record access procedures:

Delete entry and replace with “Individuals seeking access to records about themselves contained in this system should address written request to the appropriate system manager listed above.

Written requests should include the full name, organization, job series and title and be signed.”

Contesting record procedures:

Delete entry and replace with “The Office of the Secretary of Defense rules for accessing records for contesting contents and appealing initial agency determinations are published in Office of the Secretary of Defense Administrative Instruction 81; 32 CFR part 311; or may be obtained from the system manager.”

* * * * *

DSCA 01

System name:

International Affairs Personnel Initiatives Database.

System location:

Defense Institute of Security Assistance Management, Research Directorate, 2475 K Street, Wright-Patterson AFB, OH 45433-7641.

Categories of individuals covered by the system:

Civilians and military personnel employed with the Department of Defense who wish to become certified by the DoD International Affairs Certification Program, a voluntary program sponsored by the Defense Security Cooperation Agency and Departments of the Army, Navy and Air Force.

Categories of records in the system:

Full name; e-mail address; work mailing address, telephone and fax numbers.

Employment and education information that includes if individual is civilian or military; major command and mailing address, name of organization, office symbol/code, job title, job function, grade/rank, job series, military specialty, start date, total months in International Affairs related work; billet information, current certification level, highest education completed, and field of study. Supervisor Information that consists of first and last name, e-mail address, organization, office symbol, work phone and fax number.

Authority for maintenance of the system:

10 U.S.C. 134, Under Secretary of Defense for Policy and DoD Directive 5105.65, Defense Security Cooperation Agency.

Purpose(s):

International Affairs Personnel Initiatives Database (IAPID) is a single central facility with the Department of Defense (DoD) that maintains and verifies information provided by individuals seeking international affairs certification based on their current experience and training.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of OSD's compilation of systems of records notices apply to this system.

Policies and practices for storing, retrieving, accessing, retaining, and disposing of records in the system:

Storage:

Records are maintained on electronic storage media.

Retrievability:

Records are retrieved by the individual's name, organization, and level of certification.

Safeguards:

Records are maintained in controlled areas accessible only to authorized personnel. Government computers requiring a Common Access Card to access personal information is further restricted by the use of passwords that are changed periodically. Physical entry is restricted by the locks, security personnel and administrative procedures.

Retention and disposal:

Disposition is pending until the National Archives and Records Administration approves the retention and disposal schedule, records will be treated as permanent.

System manager(s) and address:

U.S. Army Personnel: Deputy Assistant Secretary of the Army for Defense Exports (DASA DE&C), 1777 North Kent Street, Rosslyn, VA 22209-2185.

U.S. Navy/U.S. Marine Corps Personnel: Navy International Programs Office, 2521 S. Clark Street, Suite 800, Arlington, VA 22202-3928.

U.S. Air Force Personnel: Security Assistance Policy and International Training and Education Division (SAF/IAPX), 1550 Wilson Blvd., Suite 900, Arlington VA 22209-1080.

Other Defense Personnel: Defense Institute of Security Assistance Management (DISAM), Project Manager, Building 52, 2475 K Street, Wright-Patterson AFB, Ohio 45433-7641.

Notification procedure:

Individuals seeking to determine whether information about themselves is contained in this system should address written request to the appropriate system manager listed above.

Written requests should include the full name, organization, job series and title and be signed.

Record access procedures:

Individuals seeking access to records about themselves contained in this system should address written request to the appropriate system manager listed above.

Written requests should include the full name, organization, job series and title and be signed.

Contesting record procedures:

The Office of the Secretary of Defense rules for accessing records for contesting contents and appealing initial agency determinations are published in Office of the Secretary of Defense Administrative Instruction 81; 32 CFR part 311; or may be obtained from the system manager.

Record source categories:

Information is obtained from the individual and immediate supervisors.

Exemptions claimed for the system:

None.

[FR Doc. 2010-8653 Filed 4-14-10; 8:45 am]

BILLING CODE 5001-06-P